DEPARTMENT OF COMMERCE

National Oceanic and Atmospheric Administration

[I.D. 053105A]

Gulf of Mexico Fishery Management Council; Public Meetings

AGENCY: National Marine Fisheries Service (NMFS), National Oceanic and Atmospheric Administration (NOAA), Commerce.

ACTION: Notice of public meeting.

SUMMARY: The Gulf of Mexico Fishery Management Council (Council) will convene its Red Snapper Advisory Panel (AP).

DATES: The meeting will be convene at 1 p.m. on Monday, June 20, 2005 and conclude no later than noon on Tuesday, June 21, 2005.

ADDRESSES: The meeting will be held at the San Luis Resort, Spa and Conference Center, 5222 Seawall Boulevard, Galveston, Texas 77551.

Council address: Gulf of Mexico Fishery Management Council, 3018 North U.S. Highway 301, Suite 1000, Tampa, FL 33619.

FOR FURTHER INFORMATION CONTACT: Mr. Steven Atran, Population Dynamics Statistician, Gulf of Mexico Fishery Management Council; telephone: 813.228.2815.

SUPPLEMENTARY INFORMATION: The Gulf of Mexico Fishery Management Council (Council) will convene its Red Snapper Advisory Panel (AP) to review the Southeast Data, Assessment and Review (SEDAR) reports of a red snapper stock assessment. The AP will receive a summary of the stock assessment and a review of the recommendations of the SEDAR Panel. Based on the information provided, the AP may make recommendations to the Council for total allowable catch (TAC) and management measures to achieve TAC, including size limits, bag limits, trip limits, closed seasons, and whether to treat red snapper in the eastern and western Gulf of Mexico as two stocks or one. The Council will receive the AP's recommendations at its July 11-15, 2005 meeting in Fort Myers Beach, Florida, along with the recommendations of the Council's Socioeconomic Panel (SEP) and Scientific and Statistical Committee (SSC), and may use these recommendations as the basis to begin preparation of a Reef Fish Regulatory Amendment to adjust the red snapper TAC and management measures.

The meeting agenda and copies of the Red Snapper Stock Assessment and the SEDAR reports can be obtained on CD by calling the Council office at 813.228.2815 (toll-free 888.833.1844). Printed copies of the materials are available upon request, but may not contain all of the information included in the CD.

Although other non-emergency issues not on the agenda may come before the Red Snapper AP for discussion, in accordance with the Magnuson-Stevens Fishery Conservation and Management Act (M-SFCMA), those issues may not be the subject of formal action during these meetings. Actions of the Red Snapper AP will be restricted to those issues specifically identified in the agenda and any issues arising after publication of this notice that require emergency action under Section 305(c) of the M-SFCMA, provided the public has been notified of the Council's intent to take action to address the emergency. The established times for addressing items on the agenda may be adjusted as necessary to accommodate the untimely completion of discussion relevant to other agenda items. In order to further allow for such adjustments and completion of all items on the agenda, the meeting may be extended from or completed prior to the date established in this notice.

The meeting is open to the public and physically accessible to people with disabilities. Requests for sign language interpretation or other auxiliary aids should be directed to Dawn Aring at the Council (see ADDRESSES) by June 13, 2005.

Dated: May 31, 2005.
Emily Menashes,
Acting Director, Office of Sustainable Fisheries, National Marine Fisheries Service.

[FR Doc. E5-2853 Filed 6-2-05; 8:45 am]

BILLING CODE 3510-22-S